EXPORT-IMPORT BANK

Economic Impact Policy

This notice is to inform the public that the Export-Import Bank of the United States has received an application to guarantee approximately $54 in commercial bank financing for the export of approximately $54 million in U.S. equipment and services to a hot briquetted iron (HBI) plant in Russia. This project is not associated with an increase in steel production capacity. The U.S. exports will enable the facility to produce approximately 1.4 million metric tons of HBI as a steel scrap substitute. Initial production of HBI at this facility is expected to commence in 2008.

Available information indicates that the HBI will be consumed primarily in the Ukraine, with smaller amounts being consumed in Russia and Holland. Interested parties may submit comments on this transaction by e-mail to xeconomic.impact@exim.gov or by mail to 811 Vermont Avenue, NW., Room 1238, Washington, DC 20571, within 14 days of the date this notice appears in the Federal Register.

Helene S. Walsh,
Director, Policy Oversight and Review.

[FR Doc. E7-9803 Filed 5-21-07; 8:45 am]

BILLING CODE 6690-01-P